COMMITTEE FOR PURCHASE FROM PEOPLE WHO ARE BLIND OR SEVERELY DISABLED

Procurement List Additions and Deletions

AGENCY: Committee for Purchase From People Who are Blind or Severely Disabled.

ACTION: Additions to and deletions from procurement list.

SUMMARY: This action adds to the procurement list services to be furnished by nonprofit agencies employing persons who are blind or have other severe disabilities, and deletes from the Procurement List services previously furnished by such agencies.

DATES: Effective October 2, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION:

Additions

On June 10, June 24, July 1, and July 8, 2005, the Committee for Purchase From People Who Are Blind or Severely Disabled published notice (70 FR 33883, 36561, 38099, and 39484) of proposed additions to the Procurement List.

The following comments pertain to Custodial Services, U.S. Department of Agriculture, Carolina, Puerto Rico:

Comments were received from the current contractor in response to a request for impact data. The commenter claimed that janitorial work is not appropriate for people who are blind or have other severe disabilities; as such people cannot do the majority of the tasks involved. The commenter also claimed that the prices are double or triple those charged by other contractors.

Seventy-five percent of the direct labor the nonprofit agency will be using to provide this janitorial service will be performed by people with severe disabilities. The price for the service is actually less than that estimated by the Government contracting office and that being charged by the current contractor. Nonprofit agencies have provided janitorial service nationwide under the Committee's Program for many years, using similar percentages of direct labor performed by people with severe disabilities, and at fair market prices. Accordingly, the Committee does not agree with the current contractor's contentions.

The following comments pertain to Document Destruction, U.S. Department of Agriculture, Farm Service Agency, St. Louis Missouri:

Comments were received from the current contractor for this document destruction service in response to a request for impact data. The commenter noted that it is a National Association for Information Destruction (NAID) AAA Certified firm, and questioned whether the nonprofit agency which will be performing the service has adequate security and capability to perform the service at the specified location. The nonprofit agency is an NAID member and will receive its AAA Certification before it begins to provide the service. The nonprofit agency has been reviewed and found capable of providing the service.

The following comments pertain to Grounds Maintenance, U.S. Department of Agriculture, Southern Plains Agriculture Research Center, College Station, Texas:

Comments were received from the current contractor in response to a request for impact data. The contractor claimed that this grounds maintenance service involves a large job site and dangerous power equipment, requiring capable supervision and workers. The contractor also claimed that the service involves the use of harmful chemicals for control of weeds, insects and disease, as well as regular inspection and repair of the landscape irrigation system. Both the pest control and irrigation functions, according to the contractor, require State licenses.

The Nonprofit Agency has been reviewed and found capable of performing the functions set forth in the Statement of Work (SOW) which the Government contracting activity prepared for the nonprofit agency to perform the work. The Nonprofit Agency participates in the Texas State use program as well as the Committee's program, and is very experienced in grounds maintenance services. The SOW has been reduced in scope from that used by the current contractor, and does not contain any pest control or irrigation functions, so State licenses are no longer required.

The following material pertains to all of the items being added to the Procurement List:

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, U.S. Department of Agriculture, 150 Central Sector Bldg C2, Warehouse #3, Carolina, Puerto Rico.

NPA: The Corporate Source, Inc., New York, New York.

Contracting Activity: U.S. Department of Agriculture, Animal & Plant Health Inspection Service, Minneapolis, Minnesota.

Service Type/Location: Document Destruction, U.S. Department of Agriculture, Farm Service Agency, 4300 Goodfellow Blvd, St. Louis, Missouri.

NPA: Challenge Unlimited, Inc., Alton, Illinois.

Contracting Activity: U.S. Department of Agriculture, Farm Service Agency, Kansas City, Missouri.

Service Type/Location: Grounds Maintenance, U.S. Department of Agriculture, Southern Plains Agriculture Research Center, 2881 F&B Road, College Station, Texas.

NPA: World Technical Services, Inc., San Antonio, Texas,

Contracting Activity: U.S. Department of Agriculture, Agriculture Research Service, College Station, Texas.

Service Type/Location: Warehouse Operation. (At the following Locations at Fort Hood, Texas): 289th Quartermaster Co, Class III, II & 14; 289th Supply Support Activity Map Depot, 13th COSCOM; 289th Supply Support Activity Weapons Warehouse, 13th COSCOM; 602nd Supply Support Activity, 13th COSCOM; 62nd Supply Support Activity, Main Yard, 26th III Corp Major End Items Class VII.

NPA: Professional Contract Services, Inc., Austin, Texas.

Contracting Activity: III Corps and Fort Hood Contracting Command, Fort Hood, Texas.

Deletions

On July 8, 2005, the Committee for Purchase From People Who Are Blind or Severely Disabled published notice (70 FR 39484) of proposed deletions to the Procurement List. After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Janitorial/Custodial, Eastman Lake, Madera County, California.

NPA: None currently authorized.

Contracting Activity: Department of the Army.

Service Type/Location: Janitorial/Custodial, Lake Mead National Recreation Area, Boulder City, Nevada.

NPA: Opportunity Village Association for Retarded Citizens, Las Vegas, Nevada.

Contracting Activity: Department of Interior, Reston, Virginia.

Service Type/Location: Painting Service, Family Quarters, Fort Sam Houston, Texas.

NPA: Goodwill Industries of San Antonio, San Antonio, Texas.

Contracting Activity: Department of the Army.

G. John Heyer,
General Counsel.

[FR Doc. E5-4822 Filed 9-1-05; 8:45 am]

BILLING CODE 6353-01-P